DEPARTMENT OF TRANSPORTATION

Federal Highway Administration

[Docket No. FHWA-2008-0021]

Agency Information Collection Activities: Notice of Request for Extension of Currently Approved Information Collection

AGENCY: Federal Highway Administration (FHWA), DOT.

ACTION: Notice of request for extension of currently approved information collection.

SUMMARY: The FHWA has forwarded the information collection request described in this notice to the Office of Management and Budget (OMB) for approval of an extension of a currently approved information collection. We published a Federal Register Notice with a 60-day public comment period on this information collection on October 29, 2007. We are required to publish this notice in the Federal Register by the Paperwork Reduction Act of 1995.

DATES: Please submit comments by March 28, 2008.

ADDRESSES: You may send comments within 30 days to the Office of Information and Regulatory Affairs, Office of Management and Budget, 725 17th Street, NW., Washington, DC, 20503, or e-mail at oira submission@omb.eop.gov, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2008-0021.

FOR FURTHER INFORMATION CONTACT: Ann Shemaka, 202-366-1575, Federal Highway Administration, 1200 New Jersey Avenue, SE., Office of Bridge Technology, HIBT-30, Washington, DC 20590, between 7:30 a.m. to 4:30 p.m., Monday through Friday, except Federal holidays.

SUPPLEMENTARY INFORMATION:

Title: Highway Bridge and National Bridge Inspection Programs previously titled National Bridge Inspection Standards.

OMB Control #: 2125-0501.

Background: The Highway Bridge and National Bridge Inspection Programs require bridge inspection and reporting at regular intervals for all highway bridges greater than 20 feet in length located on public roads. Title 23, U.S.C., section 144 defines the Highway Bridge Program. Title 23, U.S.C., section 151 defines the National Bridge Inspection Program. They are further defined in regulation, 23 CFR 650 C, National Bridge Inspection Standards, and 23 CFR 650 D, Highway Bridge Program. Inspections of fracture critical bridges and underwater inspections are also required at prescribed intervals. The bridge inspection information that is provided to the FHWA on an annual basis is summarized on the Structure Inventory and Appraisal (SI&A) Sheet. The inspection information is used for multiple purposes, including: (1) The determination of the condition of the Nation's bridges; (2) as a basis for setting initial priorities for the replacement or rehabilitation of bridges under the Highway Bridge Program (HBP); and (3) for apportioning HBP funds to the States for bridge replacement or rehabilitation. In order to apportion funds for the HBP, the law requires that a cost to replace or rehabilitate each bridge needs to be determined. In order to determine that cost, the FHWA collects data on new and replaced bridges from the States annually. In addition, the information is used for strategic national defense needs and for preparing an annual report to Congress on the status of the Nation's highway bridges.

Respondents: 52 State highway agencies including the District of Columbia and Puerto Rico, and Federal agencies.

Estimated Average Burden per Response: The estimated average burden for each inspection is 8 hours. The estimated average burden for each cost collection report is 90 hours.

Estimated Total Annual Burden Hours: The annual burden associated with the inspection is 2,289,600 hours. The annual burden associated with the cost report is 4,680 hours for a combined annual burden of 2,294,280 hours.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: February 21, 2008.
Judith Kane,
Information Services Team Leader.

[FR Doc. E8-3672 Filed 2-26-08; 8:45 am]

BILLING CODE 4910-22-P